DEPARTMENT OF THE TREASURY

Customs Service

[T.D. 00-50]

Cancellations of Customs Broker Licenses

AGENCY: U.S. Customs Service, Department of the Treasury.

ACTION: Brokers licenses cancellations.

I, as Assistant Commissioner, Office Field Operations, pursuant to section 641(f) Tariff Act of 1930, as amended (19 U.S.C. 1641(f)) and section 111.51(a) of the Customs Regulations (19 111.51(a)), hereby cancel the following Customs broker licenses without prejudice.

Name | Port | License No.
Nicholas C. D'Ambrosio | New York | 03268
Kurt O. Engel | New York | 03966
Robbins Fleisig Forwarding, Inc | New York | 07973
Geraldine R. Lyons | New York | 04993
Modern-Aire Expediters, Inc | New York | 04208
Horizon Shipping, Inc | Houston | 14054
Fujiwara America Inc | Seattle | 16400
George H. Reynolds | San Francisco | 07475
William Homes | San Francisco | 05621
Samuel G. Scott | Tampa | 03779
The Copeland Co., Inc | Tampa | 04206
William Seeger | Miami | 07820

Dated: July 10, 2000.
Bonni G. Tischler,
Assistant Commissioner, Office of Field Operations.

[FR Doc. 00-18386 Filed 7-19-00; 8:45 am]

BILLING CODE 4820-02-P